DEPARTMENT OF STATE

[Public Notice 6782]

Industry Advisory Panel: Notice of Open Meeting

The Industry Advisory Panel of the Bureau Overseas Buildings Operations will meet on Tuesday, December 1, 2009 from 9:30 a.m. until 3:30 p.m. Eastern Standard Time. The meeting is open to the public as seating permits and will be held in room 1107 of the U.S. Department of State, located at 2201 C Street, NW., (entrance on 23rd Street) Washington, DC. For logistical and security reasons, it is imperative that everyone enter and exit using only the 23rd Street entrance. The majority of the meeting will be devoted to an exchange of ideas between the Department's senior management and the panel members on design, operations, and building maintenance. There will be a reasonable time provided for members of the public to provide comment.

Entry to the building is controlled; to obtain pre-clearance for entry, members of the public planning to attend should provide, by November 15, 2009, their name, professional affiliation, date of birth, citizenship, and a valid government-issued ID number (i.e., U.S. government ID, U.S. military ID, passport, or drivers license) by e-mailing: FousheeCT@state.gov. Requests for reasonable accommodation should be sent to the same e-mail address by November 19, 2009. Requests made after that time will be considered, but may not be able to be fulfilled. Because of space restrictions, we request that companies interested in attending send only one representative.

Please contact Jonathan Blyth at BlythJJ@State.Gov or on (703) 875-4131 with any questions.

Dated: October 23, 2009.
Adam E. Namm,
Director, Acting, U.S. Department of State, Bureau of Overseas Buildings Operations.

[FR Doc. E9-26613 Filed 11-3-09; 8:45 am]

BILLING CODE 4710-24-P